DEPARTMENT OF HEALTH AND HUMAN SERVICES

Centers for Disease Control and Prevention

[Docket No. CDC-2024-0017]

Human West Nile Virus Vaccine Meeting and Request for Information

AGENCY: Centers for Disease Control and Prevention (CDC), Department of Health and Human Services (HHS).

ACTION: Notice of public teleconference and request for information.

SUMMARY: The Centers for Disease Control and Prevention (CDC), within the Department of Health and Human Services (HHS), is announcing a meeting and opportunity to comment on a human West Nile virus (WNV) vaccine. The primary purpose of the meeting is to inform critical next steps toward the deployment of a human WNV vaccine.

DATES: The meeting will be held on April 5, 2024, from 8 a.m. to 5 p.m., eastern time.

Written comments must be received on or before April 4, 2024.

ADDRESSES: You may submit written comments, identified by docket number CDC-2024-0017, by either of the following two methods listed below. CDC does not accept comments by email.

• Federal eRulemaking Portal: http://www.regulations.gov. Follow the instructions for submitting comments.

• Mail: Randall Nett, MD, MPH, Centers for Disease Control and Prevention, 3156 Rampart Road, MS P02, Fort Collins, CO 80521.

Instructions: All information received in response to this notice must include the agency name and docket number [CDC-2024-0017]. All relevant comments received will be posted without change to http://www.regulations.gov, including any personal information provided. This will be an in-person and virtual meeting with a limited number of available Zoom lines. The in-person gathering will be by invitation only and held at Constitution Center, 400 7th St. SW, Washington, DC.

Accessibility: For information on access or services for individuals with disabilities, or to request accommodations for a disability, please contact Shawna Zuck by email at wnv.vaccine@cdc.gov, or by phone at (970) 221-6400, preferably at least 10 days before the meeting to allow as much time as possible to process your request.

FOR FURTHER INFORMATION CONTACT: Randall J. Nett, MD MPH, Chief, Arboviral Diseases Branch, 3156 Rampart Road, MS P02, Fort Collins, CO 80521; telephone number: (970) 221-6400; email address wnv.vaccine@cdc.gov.

SUPPLEMENTARY INFORMATION:

Background: WNV is a disease spread by mosquitoes that continues to cause illness and deaths each year in the United States and other areas of the world. Current mosquito control measures have been unsuccessful at decreasing the number of WNV disease cases. An approved human WNV vaccine could reduce the public health impact of WNV disease.

Purpose: The primary purpose of the meeting and public comment period is to inform critical next steps toward the development of a human WNV vaccine that is approved for use.

Attending the meeting: The meeting will be open to the general public. The meeting agenda and information on how to register for and attend the meeting online will be provided on request. If interested in attending the meeting online, please email wnv.vaccine@cdc.gov. This meeting is open to the public, limited only by the number of Zoom lines. The Zoom line will accommodate up to 500 participants and be available on a first come-first serve basis.

Public Participation

Interested persons or organizations are invited to participate by submitting written views, recommendations, and data. Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact or withhold submissions containing private or proprietary information such as Social Security numbers, medical information, inappropriate language, or duplicate/near-duplicate examples of a mass-mail campaign. CDC will carefully consider all comments submitted into the docket.

Oral Statements: CDC will allocate 15 minutes for the public to present oral comments during the meeting. Oral statements will be limited to three minutes per person during the public comment period. It is preferred that only one person present a statement on behalf of a group or organization. Persons interested in presenting an oral statement should send an email to wnv.vaccine@cdc.gov by 12 p.m., eastern time, on March 29, 2024. A limited number of time slots are available and will be assigned on a first come-first served basis.

Written Public Comment: Written comments will also be accepted per the instructions provided in the addresses section above. Comments should be submitted on or before April 4, 2024.

Noah Aleshire,
Chief Regulatory Officer, Centers for Disease Control and Prevention.

[FR Doc. 2024-04745 Filed 3-5-24; 8:45 am]

BILLING CODE 4163-18-P